INTERNATIONAL TRADE COMMISSION

[Investigation Nos. 731-TA-540 and 541 (Second Review)]

Certain Welded Stainless Steel Pipe From Korea and Taiwan

Determination

On the basis of the record ¹ developed in the subject five-year reviews, the United States International Trade Commission (Commission) determines, pursuant to section 751(c) of the Tariff Act of 1930 (19 U.S.C. 1675(c)) (the Act), that revocation of the antidumping duty orders on welded ASTM A-312 stainless steel pipe from Korea and Taiwan would be likely to lead to continuation or recurrence of material injury to an industry in the United States within a reasonably foreseeable time.

¹ The record is defined in sec. 207.2(f) of the Commission's Rules of Practice and Procedure (19 CFR 207.2(f)).

Background

The Commission instituted these reviews on September 1, 2005 (70 FR 52124) and determined on December 5, 2005, that it would conduct full reviews (70 FR 73452, December 12, 2005). Notice of the scheduling of the Commission's reviews and of a public hearing to be held in connection therewith was given by posting copies of the notice in the Office of the Secretary, U.S. International Trade Commission, Washington, DC, and by publishing the notice in the Federal Register on February 16, 2006 (71 FR 8311). The hearing was held in Washington, DC, on June 20, 2006, and all persons who requested the opportunity were permitted to appear in person or by counsel.

The Commission transmitted its determination in these reviews to the Secretary of Commerce on August 16, 2006. The views of the Commission are contained in USITC Publication 3877 (August 2006), entitled Certain Welded Stainless Steel Pipe from Korea and Taiwan: Investigation Nos. 731-TA-540 and 541 (Second Review).

Issued: August 16, 2006.
By order of the Commission.
Marilyn R. Abbott,
Secretary to the Commission.

[FR Doc. E6-13873 Filed 8-21-06; 8:45 am]

BILLING CODE 7020-02-P